DEPARTMENT OF VETERANS AFFAIRS

[OMB Control No. 2900-0567]

Agency Information Collection Activity: (Presidential Memorial Certificate Form)

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each revised collection allow 60 days for public comment in response to the notice.

DATES: Written comments and recommendations on the proposed collection of information should be received on or before July 20, 2020.

ADDRESSES: Submit written comments on the collection of information through Federal Docket Management System (FDMS) at www.Regulations.gov or to Cynthia Harvey-Pryor, National Cemetery Administration (42E), Department of Veterans Affairs, 810 Vermont Avenue NW, Washington, DC 20420 at 202-461-5870, or email to cynthia.harvey-pryor@va.gov. Please refer to “OMB Control No. 2900-0567” in any correspondence. During the comment period, comments may be viewed online through the FDMS.

FOR FURTHER INFORMATION CONTACT: Mr. James Flanagan can be contacted at 202-632-7219 or email at James.Flanagan@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-21.

Title: Presidential Memorial Certificate Form VA form 40-0247.

OMB Control Number: 2900-0567.

Type of Review: Revision of a currently approved collection.

Abstract: The Presidential Memorial Certificate (PMC) is an engraved paper certificate, signed by a current U.S. President, to honor the memory of deceased Veterans who are eligible for burial in a national cemetery. VA Form 40-0247 information collection is required to properly inscribe and address for delivery of the PMC. Supporting military or discharge documents are also needed to verify that the veteran's character of service and duty status meet program eligibility and legal requirements. NCA is updating Form VA 40-0247 to include personal information necessary for statistical data gathering, targeted outreach and utilization trend analysis.

Affected Public: Individuals or Households.

Estimated Annual Burden: 6,250 hours.

Estimated Average Burden per Respondent: 3 minutes.

Frequency of Response: One-time.

Estimated Number of Respondents: 125,000.

By direction of the Secretary.
Danny S. Green,
Department Clearance Officer, Office of Quality, Performance and Risk, Department of Veterans Affairs.

[FR Doc. 2020-09546 Filed 5-18-20; 8:45 am]

BILLING CODE 8320-01-P